DEPARTMENT OF THE TREASURY

Report on Section 529 College Savings Plans

AGENCY: Departmental Offices, Treasury.

ACTION: Notice and request for comments.

SUMMARY: The Department of the Treasury invites the general public to submit information pertinent to a report it will issue on Section 529 college savings plans. Such information could include data, research studies, opinions citing hard data, or references thereof. The report is an initiative of the Middle Class Task Force chaired by Vice President Joe Biden and was announced in an April 17th press release that can be found at http://www.whitehouse.gov/the_press_office/Middle-Class-Task-Force-Holds-Meeting-on-College-Affordability/. The report will examine how people save using 529 plans and whether they are taking appropriate steps to manage risk. In addition, the report will identify options and best practices for making the 529 plans more effective.

DATES: Written comments must be received on or before August 14, 2009, to be assured of consideration.

Submission of Comments: Please submit comments electronically through the Federal eRulemaking Portal—“Regulations.gov.” Go to http://regulations.gov, select “Department of the Treasury” from the agency menu to submit or view public comments. The “How to Use This Site” and “User Tips” links on the Regulations.gov home page provide information on using Regulations.gov, including instructions for submitting or viewing public comments, viewing other supporting and related materials, and viewing the docket after the close of the comment period.

Please include your name, affiliation, address, e-mail address, and telephone number(s) in your comment. All statements received, including attachments and other supporting materials, are part of the public record and subject to public disclosure. You should submit only information that you wish to make available publicly.

FOR FURTHER INFORMATION CONTACT: 529ReportInput@do.treas.gov.

SUPPLEMENTARY INFORMATION: The Treasury Department is particularly interested in data, research studies, opinions citing hard data, or references thereof, relating to the specific questions set forth below.

1. To what extent are Section 529 savings plan investment options prudent and to what extent do they accommodate reasonable attitudes toward risk?

2. To what extent are Section 529 savings plans invested wisely?

a. Is there a tendency for accounts to be too heavily invested in equities?

b. To what extent do account owners sell equities when prices are falling and buy equities when prices are rising?

c. Should plans take steps to better assist account owners in making prudent investment choices? If so, what steps would be appropriate?

3. To what extent are Section 529 savings plan account fees reasonable?

a. How do fees compare with similar retail mutual funds, and what factors might explain any differences?

b. How much variance is there in fees across plans for a similar investment option, and what factors might explain any such variance?

4. To what extent do low- and middle-income families benefit from Section 529 savings plans and Section 529 prepaid tuition plans?

a. How do the financial incentives for participation vary with family income?

b. How does financial aid eligibility affect the financial incentives for participation?

c. How are contributions, account balances, and tax benefits distributed across income groups?

d. Controlling for initial family attitudes toward education, does having a Section 529 savings account increase the beneficiary's likelihood of attending college?

e. Are state matching grants an effective means of encouraging Section 529 contributions from low- and moderate-income families?

f. Are tax subsidies for saving the most cost effective way to make college affordable for low- and middle- income families?

5. Do prepaid tuition plans assess a reasonable premium in exchange for reducing participant risks with respect to investment returns and increases in the cost of attending college?

Alan B. Krueger,
Assistant Secretary for Economic Policy.

[FR Doc. E9-17916 Filed 7-27-09; 8:45 am]

BILLING CODE 4810-25-P